DEPARTMENT OF ENERGY

Federal Energy Regulatory Commission

[Docket No. CP05-3-000]

Centerpoint Energy Gas Transmission; Notice of Site Visit

January 5, 2005.

On Thursday, January 13, 2005, the staff of the Federal Energy Regulatory Commission (FERC) will conduct a site visit to view components of the Line AD Expansion Project in Caddo, Grady and Hughes counties, Oklahoma. We will meet at 8 a.m. (CST) at The Best Western Inn of Chickasha, 2101 South 4th Street, Chickasha, Oklahoma and proceed to the proposed Hinton Compressor Station site in Caddo County, and then to the two other compressor station sites. Interested persons may attend, but must provide their own transportation.

For additional information about the site visit, please contact the FERC's Office of External Affairs at 1-866-208-3372.

Magalie R. Salas,
Secretary.

[FR Doc. E5-114 Filed 1-11-05; 8:45 am]

BILLING CODE 6717-01-P